OFFICE OF PERSONNEL MANAGEMENT

Submission for Review: Combined Federal Campaign Charity

Applications, OPM Forms 1647-A, -B, and -E, 3206-0269

AGENCY: Office of Personnel Management.

ACTION: 60-Day notice and request for comments.

SUMMARY: The Office of Personnel Management (OPM), Office of Combined Federal Campaign (CFC), offers the general public and other federal agencies the opportunity to comment on a revision to an existing information collection request, CFC Applications OMB Control No. 3206-0269, which includes OPM Forms 1647-A, -B, and -E. As required by the Paperwork Reduction Act of 1995, as amended by the Clinger-Cohen Act, OPM is soliciting comments for this collection.

The OPM is particularly interested in comments that: Evaluate whether the proposed collection of information is necessary for the proper performance of the functions of the agency, including whether the information will have practical utility; Evaluate the accuracy of the agency's estimate of the burden of the proposed collection of information, including the validity of the methodology and assumptions used; Enhance the quality, utility, and clarity of the information to be collected; and Minimize the burden of the collection of information on those who are to respond, including through the use of appropriate automated, electronic, mechanical, or other technological collection techniques or other forms of information technology, e.g., permitting electronic submissions of responses.

DATES: Comments are encouraged and will be accepted until May 13, 2019. This process is conducted in accordance with 5 CFR 1320.1.

ADDRESSES: You may submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR, with applicable supporting documentation, may be obtained by contacting the U.S. Office of Personnel Management, Office of Combined Federal Campaign, 1900 E Street NW, Washington, DC 20415, Attention: Marcus Glasgow, by sending an email to cfc@opm.gov or calling (202) 606-2564.

SUPPLEMENTARY INFORMATION: The CFC is the world's largest and most successful annual workplace philanthropic giving campaign, with 36 CFC Zones throughout the country and overseas raising millions of dollars each year. The mission of the CFC is to promote and support philanthropy through a program that is employee focused, cost-efficient, and effective in providing all federal employees the opportunity to improve the quality of life for all.

The CFC Eligibility Applications are used to review the eligibility of national, international, and local charitable organizations that wish to participate in the CFC.

Analysis

Agency: Combined Federal Campaign, Office of Personnel Management.

Title: OPM Forms 1647-A, -B, and -E.

OMB Number: OMB Control No. 3206-0269,

Frequency: Annually.

Affected Public: Individuals or Households.

Number of Respondents: 10,000.

Estimated Time per Respondent: 2 hours.

Total Burden Hours: 20,000 hours.

Office of Personnel Management.
Alexys Stanley,
Regulatory Affairs Analyst.

[FR Doc. 2019-04397 Filed 3-11-19; 8:45 am]

BILLING CODE 6325-46-P